DEPARTMENT OF VETERANS AFFAIRS

Funding Opportunity: Legal Services for Homeless Veterans and Veterans At-Risk for Homelessness Grant Program

AGENCY: Department of Veterans Affairs.

ACTION: Notice of funding opportunity.

SUMMARY: The Department of Veterans Affairs (VA) is announcing the availability of funds for legal services grants under the Legal Services for Homeless Veterans and Veterans At-Risk for Homelessness (LSV-H) Grant Program. This Notice of Funding Opportunity (NOFO) contains information concerning the LSV-H Grant Program, the grant application processes, and the amount of funding available. Awards made for legal services grants will fund operations beginning on August 1, 2024, for a period of 14 months.

DATES: Applications for legal services grants under the LSV-H Grant Program must be received by the Legal Services for Veterans (LSV) Program Office by 4:00 p.m. Eastern Standard Time (EST) on February 23, 2024. In the interest of fairness to all eligible applicants, as described in this NOFO, this deadline is firm as to date and hour, and VA will treat any application that is received after the deadline as ineligible for consideration. Applicants should take this practice into account and make early submissions of their materials to avoid any risk of loss of eligibility brought about by unanticipated delays, computer service outages, or other submission-related problems.

ADDRESSES: For a copy of the application package: Copies of the application can be downloaded from the LSV website at www.va.gov/homeless/lsv.asp. Questions may be referred to the LSV Program Office via email at LSVGrants@va.gov. For detailed LSV-H Grant Program information and requirements, see part 79 of title 38, Code of Federal Regulations (38 CFR part 79).

Application Submission: Applicants must submit applications electronically following instructions found at www.va.gov/homeless/lsv.asp. Applications may not be mailed, hand carried, or sent by facsimile. Applications must be received by the LSV Grant Program Office by 4:00 p.m. EST on the application deadline date. Applications must arrive as a complete package. Materials arriving separately will not be included in the application package for consideration and may result in the application being rejected.

In the event of certain errors, such as duplicate applications or multiple applications per Employer Identification Number, per VA Veterans Integrated Service Network catchment area, VA reserves the right to select which application to consider based on the submission dates and times or based on other factors.

Technical Assistance: Information regarding how to obtain technical assistance with preparing a legal service grant application is available on the LSV Program website at www.va.gov/homeless/lsv.asp.

FOR FURTHER INFORMATION CONTACT: Ms. Madolyn Gingell, National Coordinator, Legal Services for Veterans, by email at LSVGrants@va.gov.

SUPPLEMENTARY INFORMATION:

Funding Opportunity Title: Legal Services for Homeless Veterans and Veterans At-Risk for Homelessness Grant Program.

Announcement Type: Initial.

Funding Opportunity Number: VA-VJP-LSV-H-1023.

Assistance Instrument: Grant.

Assistance Listing: 64.056, Legal Services for Veterans Grant.

Table of Contents

Funding Opportunity Description 4

Purpose 4

Background 4

Definitions 5

Approach 5

Authority 5

Guidance for the Use of Funds 5

Award Information 7

Allocation of Funds 7

Funding Priorities 9

Funding Restrictions 9

Award Period 9

Eligibility Information 10

Eligible Applicants 10

Cost Sharing or Matching 10

Application and Scoring Information 11

Content and Form of Application 11

Review and Selection Process 19

Application Selection 19

Tie Score 21

Funding Actions 21

Award Administration Information 22

Award Notice 22

Administrative and National Policy 23

Payment 23

Reporting and Monitoring 24

Program Evaluation 25

Funding Opportunity Description

Purpose

Ending and preventing homelessness among Veterans is a priority for VA. VA's Homeless Programs constitute the Nation's largest integrated network of homeless treatment and assistance services for Veterans. The LSV-H Grant Program's purpose is to award legal services grants to eligible public or non-profit private entities who will provide legal services to eligible Veterans who are homeless or at risk for homelessness.

Background

This NOFO will provide awards designed to address the needs identified in 38 CFR part 79.20, including legal services related to housing; family law; income support; criminal defense; protective orders and other matters related to domestic or intimate partner violence; access to health care; requests to upgrade military discharge or dismissal of a former member of the Armed Forces under 10 U.S.C. 1553; consumer law, such as financial services, debt collection, garnishments, usury, fraud, and financial exploitation; employment law; and the top 10 unmet legal needs as enumerated on VA's annual Community Homelessness Assessment, Local Education and Networking Groups (CHALENG) survey for the grant award year. CHALENG survey results can be found at https://www.va.gov/homeless/chaleng.asp. Funds provided through this NOFO must not duplicate or replace funds provided from any Federal, state, or local government agency or program to assist homeless Veterans.

Definitions

38 CFR part 79.5 contains definitions of terms used in the LSV-H Grant Program.

Approach

The goal of the LSV-H Grant Program is to assist Veterans who are homeless or at risk for homelessness who have unaddressed needs for legal services, which may create barriers to housing stability. Services provided to Veterans under this NOFO are designed to help Veterans increase housing stability by providing legal services, including eviction defense, that will help Veterans avoid homelessness or help them return to permanent housing in the community.

Authority

Funding available under this NOFO is authorized by 38 U.S.C. 2022A. VA implements the LSV-H Grant Program through regulations in 38 CFR part 79. Funds made available under this NOFO are subject to the requirements of these regulations.

Guidance for the Use of Funds

As noted above, the LSV-H Grant Program's purpose is to provide legal services grants to public or non-profit private entities that will directly provide legal services to eligible Veterans who are homeless or at risk for homelessness. The LSV-H Grant is not a Case Management Grant nor a Transitional Housing Grant. The applicant's request for funding must be consistent with the limitation and uses of legal services grant funds outlined in 38 CFR part 79 and this NOFO. Per the regulations and this NOFO, the following requirements apply to legal services grants awarded under this NOFO:

Grantees may use a maximum of 10% of legal services grant funds for administrative costs as identified in 38 CFR part 79.90. Administrative costs consist of all costs, including all direct and indirect costs, associated with the management of the program. These costs may include professional training for attorneys to provide legal services for Veterans or other activities that are not direct services. These costs also include the administrative costs of subcontractors.

Grantees must use at least 90% of legal services grant funds to provide legal services which are consistent with 38 CFR part 79.90. Grantees are expected to provide legal services relevant to issues that interfere with the participant's ability to obtain or retain permanent housing. (NOTE: Specific details of the legal services provided may be protected from being released to the grantee from a sub-grantee or VA under attorney-client privilege; however, the grantee must provide sufficient information to demonstrate the eligibility of the Veteran client as well as the frequency and type of legal services delivered.) Support for legal services can include paying for court filing fees to assist a participant with issues that interfere with the participant's ability to obtain or retain permanent housing or legal services, including issues that affect the participant's employability and financial security.

Grantees are expected to use at least 10% of grant funds to provide legal services to women Veterans.

Award Information

Allocation of Funds

Under this NOFO, approximately $26.8 million is available for grants to provide legal services to homeless Veterans or Veterans at risk for homelessness. The LSV-H Grant Program aims to provide grant funding up to a maximum of $300,000 to eligible applicants in a 14-month grant cycle. The funding amount and number of awards will be determined based on the number of applications received by VA. Funding will only be awarded to applicants who demonstrate sufficient capacity to provide legal services to homeless Veterans or Veterans at risk for homelessness.

Grants governed by this NOFO are expected to begin August 1, 2024. Future renewal funding is dependent on such factors as need, geographical dispersion, funding availability, the recipient meeting performance goals and statutory and regulatory requirements, as well as results of VA performance measurement and monitoring.

If VA determines that grantee spending is not meeting the minimum percentage milestones identified below, VA may elect to recoup projected unused funds and reallocate funds among other grantees who are able to fully use the funds to provide legal services during the grant period. Should VA elect to recoup unspent funds, reductions in available grant funds would take effect the first business day following the end of the quarter. VA may elect to recoup funds in the following circumstances:

• The grantee's requests to VA for grant funds are less than 10% of the total grant award by the end of the first quarter of the grant cycle, no later than October 31, 2024.

• The grantee's requests to VA for grant funds are less than 30% of the total grant award by the end of the second quarter of the grant cycle, no later than January 31, 2025.

• The grantee's requests to VA for grant funds are less than 55% of the total grant award by the end of the third quarter of the grant cycle, no later than April 30, 2025.

Reductions will be calculated based on the total amount of payment requests submitted in the U.S. Department of Health and Human Services' (HHS) Payment Management System (PMS) by 5:00 p.m. EST on the last business day of the quarter. Should VA elect to recoup unspent funds, reductions in available grant funds would take place the first business day following the end of the quarter. If additional funds become available from funds recouped under the Award Information section of this NOFO, funds that are voluntarily returned by grantees, funds that become available due to a grant termination, or other funds that are still available for grant awards, VA may elect to offer these funds to other grantees. Additional funds may be provided to grantees who are in compliance with their grant agreement and have the capacity to use the additional funds, with priority given in descending order based on grantees' original application's ranking/score.

Funding Priorities

* Priority 1: VA will place in the first funding priority those applications from organizations that have demonstrated the ability to directly provide three or more allowable legal services covered under the LSV-H Grant Program (38 CFR part 79.20) to eligible Veterans.

* Priority 2: VA will place in the second funding priority those applications from organizations that are equitably distributed across geographic regions including (i) areas not being served by existing LSV-H awards, (ii) rural communities, (iii) tribal lands, and (iv) areas with a high number or percentage of Native Veterans.

* Priority 3: VA will place in the third funding priority those applications from organizations with a demonstrated focus on providing legal services to women Veterans.

Applications will be ranked in score order within the funding priority.

Funding Restrictions

Applicants may not receive funding to replace funds provided by any other Federal, state, or local government agency or program to assist homeless Veterans. VA will not fund projects or activities deemed outside the scope of those enumerated in 38 CFR part 79.20 and this NOFO.

Award Period

Grants awarded will be for a 14-month period starting August 1, 2024.

Eligibility Information

Eligible Applicants

For purposes of this NOFO, an eligible applicant is a public or non-profit private entity as defined in 38 CFR part 79.10. Applicants must have the necessary technical and administrative abilities and resources to execute the program successfully. Applicants must provide sufficient eligibility information to allow VA to evaluate their application for scoring purposes. Only eligible entities can apply in response to this NOFO.

Applicants with 501(c)(3) Internal Revenue status must provide a copy of their status determination letter received from the Internal Revenue Service. Award recipients must maintain their status as a 501(c)(3) or 501(c)(19) non-profit, state or local government, or recognized Indian tribal government as defined by General Services Administration regulations, 41 CFR part 105-71.102, for the entire award cycle. Faith-based organizations may apply for the LSV-H Grant Program. Faith-based organizations are eligible, on the same basis as any other organization, to participate in the LSV-H Grant Program as described in 38 CFR part 79.80.

Applicants are required to register in the System for Award Management (SAM) located at https://sam.gov before submitting a Federal award application. Federal award recipients must continue to maintain an active SAM.gov registration with current information through the life of their Federal award.

As described in 38 CFR part 79.10, this program prohibits issuing awards to entities that do not meet criteria for an eligible entity.

Cost Sharing or Matching

Cost-sharing or matching is not required for this funding opportunity.

Application and Scoring Information

Content and Form of Application

Applicants must submit applications electronically following instructions found at www.va.gov/homeless/lsv.asp. Applicants must include all required documents in their application submission. Submission of an incorrect, incomplete, inconsistent, unclear, or incorrectly formatted application package may result in the application being rejected.

The application is organized into the following sections:

Section I: Administrative Information

A. Application Information

a. Organization's Legal Name;

b. Other Names under Which Organization Does Business;

c. Organization's Address;

d. Contact Person Name and Title;

e. Telephone number for Contact Person;

f. Email for Contact Person;

g. Unique Entity Identifier (UEI);

h. Employer Identification Number; and

i. SAM expiration date.

Note: Applicants are required to be registered in SAM before submitting an application and must maintain an active SAM registration with current information at all times during which they have an active Federal award or an application under consideration by a Federal awarding agency.

B. Legal Services Proposed

a. Amount of Legal Services Grant Funds Requested;

b. Types of Legal Services that will be provided; and

c. Projected Number of Eligible Veterans to be Served.

C. Geographic Region Served

a. State(s) to be served;

b. Counties to be served;

c. Veterans Integrated Service Network(s) to be served; and

d. Specific types of geographic regions to be served.

Section II: Background, Qualifications, Experience and Past Performance of Applicant, and any Identified Subcontractor (30 Maximum Points)

VA will award points based on the background, qualifications, experience and past performance of the applicant, and any subcontractors identified by the applicant in the legal services grant application, as demonstrated by the following:

(1) Background and Organizational History.

(i) Applicant's and any identified subcontractors' background and organizational history are relevant to providing legal services.

(ii) Applicant and any identified subcontractors maintain organizational structures with clear lines of reporting and defined responsibilities.

(iii) Applicant and any identified subcontractors have a history of complying with agreements and not defaulting on financial obligations.

(2) Staff qualifications.

(i) Applicant's staff, and any identified subcontractors' staff, have experience working with Veterans or individuals who are homeless, at risk for homelessness or who have very low income, as defined under 38 CFR part 79.

(ii) Applicant's staff, and any identified subcontractors' staff, have experience administering programs similar to the Grant Program under 38 CFR part 79.

(3) Organizational qualifications and past performance.

(i) Applicant, and any identified subcontractors, have organizational experience providing legal services to Veterans or individuals who are homeless, at risk for homelessness, or who have very low income as defined under 38 CFR part 79.

(ii) Applicant and any identified subcontractors have or plan to hire staff, who are qualified to administer legal services, and as applicable, are in good standing as a member of the applicable State bar.

(4) Experience working with Veterans, including Women Veterans.

(i) Applicant's staff, and any identified subcontractors' staff, have experience working with Veterans, including women Veterans.

(ii) Applicant and any identified subcontractors have organizational experience providing legal services to Veterans, including women Veterans.

Section III: Program Concept and Legal Services Plan (Maximum 30 Points)

VA will award points based on the applicant's program concept and legal services plan, as demonstrated by the following:

(1) Need for program.

(i) Applicant has shown a need among eligible Veterans in the area or community where the program will be based.

(ii) Applicant understands the legal services needs unique to eligible Veterans in the area or community where the program will be based.

(2) Outreach and screening plan.

(i) Applicant has a feasible outreach and referral plan to identify and assist eligible Veterans in need of legal services. This plan should include a description of how the applicant will ensure that services are provided to eligible Veterans, including women Veterans, and how the applicant will use at least 10% of the grant funds to serve eligible women Veterans.

(ii) Applicant has a plan to process and receive referrals from eligible Veterans.

(iii) Applicant has a plan to assess and accommodate the needs of incoming eligible Veterans.

(3) Program concept and design.

(i) Applicant's program concept, size, scope, and staffing plan are feasible.

(ii) Applicant's program is designed to meet the legal needs of eligible Veterans in the area or community where the program will be based.

(iii) Applicant's program design detailing the specific types of legal services provided.

(4) Program implementation timeline.

(i) Applicant's program will be implemented in a timely manner, and legal services will be delivered to eligible Veterans as quickly as possible and within a specified timeline.

(ii) Applicant has a hiring plan in place to meet the applicant's program timeline or has existing staff to meet such timeline.

(5) Collaboration and communication with VA. Applicant has a plan to coordinate outreach and services with local VA facilities.

(6) Ability to meet VA's requirements, goals, and objectives for the grant program. Applicant is committed to ensuring that its program meets VA's requirements, goals, and objectives for the grant program as identified in 38 CFR part 79 and the Purpose Section of the NOFO (https://www.federalregister.gov/documents/2022/06/01/2022-10930/legal-services-for-homeless-veterans-and-veterans-at-risk-for-homelessness-grant-program#sectno-reference-79.40).

(7) Capacity to undertake program. Applicant has sufficient capacity, including staff resources, to undertake the program.

Section IV: Quality Assurance and Evaluation Plan (Maximum 15 Points)

VA will award points based on the applicant's quality assurance and evaluation plan, as demonstrated by the following:

(1) Program evaluation.

(i) Applicant has created clear, realistic, and measurable metrics that align with the grant program's aim of addressing the legal needs of eligible Veterans for which the applicant's program performance can be continually evaluated.

(2) Monitoring.

(i) Applicant has adequate controls in place to regularly monitor the program, including any subcontractors, for compliance with all applicable laws, regulations, and guidelines.

(ii) Applicant has adequate financial and operational controls in place to ensure the proper use of legal services grant funds.

(iii) Applicant has a plan for ensuring that the applicant's staff and any subcontractors are appropriately trained and comply with the requirements of 38 CFR part 79.

(3) Remediation. Applicant has a plan or establishes a system to remediate non-compliant aspects of the program if and when they are identified.

(4) Management and reporting. Applicant's program management team has the capability and a system in place to provide to VA timely and accurate reports, no less than quarterly.

Section V: Financial Capability and Plan (Maximum 15 Points)

VA will award points based on the applicant's financial capability and plan, as demonstrated by the following:

(1) Organizational finances. Applicant and any identified subcontractors are financially stable.

(2) Financial feasibility of program.

(i) Applicant has a realistic plan for obtaining all funding required to operate the program for the period of the legal services grant.

(ii) Applicant's program is cost-effective and can be effectively implemented on budget.

Section VI: Area Linkages and Relations (Maximum 10 Points)

VA will award points based on the applicant's area or community linkages and relations, as demonstrated by the following:

(1) Area or community linkages. Applicant has a plan for developing or has existing linkages with Federal (including VA), state, local, and tribal governments, agencies, and private entities for the purposes of providing additional legal services to eligible Veterans.

(2) Past working relationships. Applicant (or applicant's staff) and any identified subcontractors (or subcontractors' staff) have fostered successful working relationships and linkages with public and private organizations providing legal and non-legal supportive services to Veterans in need of services similar to those covered under the Grant Program.

(3) Local presence and knowledge.

(i) Applicant has a presence in the area or community to be served by the applicant.

(ii) Applicant understands the dynamics of the area or community to be served by the applicant.

(4) Integration of linkages and program concept. Applicant's linkages to the area or community to be served by the applicant enhance the effectiveness of the applicant's program.

Section VII: Applicant Certifications and Assurances

Applicants must sign and submit the grant application agreeing to the following:

(1) Project Budget Template. Applicants must attach an itemized detailed budget using the approved SF 424A form and corresponding to the narrative provided in the financial capability and plan. The categories and costs included in the detailed budget must indicate the plan and demonstrate compliance with cost principles. See the Attachments section at the end of the application. Successful applicants must follow all applicable budget requirements, including the Federal cost principles in subpart E of 2 CFR part 200, LSV regulations at 38 CFR part 79, and budget requirements of this NOFO.

(2) Additional Eligibility Documentation. Applicants will provide other required or optional materials as attachments, including the following:

(i) Budget Template (required);

(ii) Letters of coordination (optional); and

(iii) Resumes or position descriptions of key staff (required).

Section VIII: Criteria for Threshold Review

Submission of an incorrect, incomplete, inconsistent, unclear, or incorrectly formatted application package may result in the application being rejected and not considered for award. Only applications that meet threshold requirements in 38 CFR part 79.30 will be scored consistent with criteria in 38 CFR part 79.35.

Review and Selection Process

Applications will be ranked in score order by funding priority as described in this NOFO Award Information, Funding Priorities, and 38 CFR part 79.40. VA will rank those applicants who score at least 60 cumulative points and receive at least one point under each of the following categories: (a) Background, Qualifications, Experience, and Past Performance of Applicant and Any Identified Subcontractor; (b) Program Concept and Legal Services Plan; (c) Quality Assurance and Evaluation Plan; (d) Financial Capability and Plan; and (e) Area Linkages and Relations The applicants will be ranked in order from highest to lowest.

Application Selection

VA will only score applications that meet the following threshold requirements in 38 CFR part 79.30: the application is filed within the time period established in the NOFO, and any additional information or documentation requested by VA under 38 CFR part 79.25(c) is provided within the timeframe established by VA; the application is completed in all parts; the activities for which the legal services grant is requested are eligible for funding under 38 CFR part 79; the applicant's proposed participants are eligible to receive legal services under 38 CFR part 79; the applicant agrees to comply with the requirements of 38 CFR part 79; the applicant does not have an outstanding obligation to the Federal Government that is in arrears and does not have an overdue or unsatisfactory response to an audit; and the applicant is not in default by failing to meet the requirements for any previous Federal assistance.

Applications that meet threshold will be scored. Applications will be assigned to the highest priority group for which they are eligible. Applications will be ranked in score order by funding priority as described in this NOFO Award Information, Funding Priorities, and 38 CFR part 79.40. Applications in priority 1 that receive the minimum score to be eligible for selection will be considered in score order before applications in priority 2 are considered, etc.

VA will use an application's rank as the primary basis for selection for funding; however, VA will also use the considerations listed in 38 CFR part 79.40(d) to select applicants for funding. For example, pursuant to 38 CFR part 79.40(d)(1), reviewers will give preference to applications that demonstrate an ability to directly provide legal services to eligible individuals.

Review and selection process may be found at 38 CFR part 79.40. In case of a discrepancy between information provided by the applicant and other information available to VA, VA reserves the right to make funding decisions based on all available information or to not select an application. Additional selections may be considered, at VA's discretion, until available funding is exhausted.

Depending on factors such as the quantity and quality of applications received and the availability of funding, VA reserves the right to make additional rounds of conditional selections from this NOFO to the eligible pool of applicants, or to take other actions as appropriate. VA reserves the right to negotiate with applicants, as needed, to accomplish the overall goals and objective.

Consistent with 2 CFR part 200.206(b), VA evaluates risk posed by applicants at any time pre-award or post-award. Special conditions, adjustments, or remedies corresponding to the degree of risk may be applied to an award (2 CFR parts 200.206, 200.208, 200.339). Risk evaluations may include but are not limited to an evaluation of the applicant's eligibility, the quality of its application, the needs of the community, the organization's financial stability, management systems and standards, the history of performance, the status of Single Audit reports, an ability to effectively implement requirements, the status of any VA or other Federal debt, and the findings of any VA fiscal reviews.

Tie Score

In the event of a tie score between applications, VA will determine at its discretion how to handle selection decisions (for example, selecting multiple applications for award or awarding for less than requested). VA will consider the intent of this NOFO to fund legal services to assist vulnerable Veterans in retaining their permanent housing. VA's discretionary funding decisions are final.

Funding Actions

VA will provide funding to all eligible applicants in the Priority Group score order described in this NOFO until funding is exhausted. Funding is not guaranteed. Before awarding a grant agreement, VA reserves the right to make adjustments (e.g., to funding levels) as needed within the intent of this NOFO based on a variety of factors, including the quantity and quality of applications, geographic dispersion, as well as the availability of funding.

VA will consider any information that comes to its attention, including information in the designated integrity and performance system, in making a judgment about the applicant's integrity, business ethics, and performance under Federal awards. VA may not make a Federal award to an applicant if the applicant has not complied with all applicable UEI and SAM.gov requirements. Applicants may refer to 2 CFR part 25 and SAM.gov for more information.

If an applicant has not fully complied by the time the Federal awarding agency is ready to make a Federal award, the Federal awarding agency may determine that the applicant is not qualified to receive a Federal award and use that determination as a basis for making a Federal award to another applicant. VA may elect to award additional applications based on the availability of funds and quality of applications. Upon signature of the grant agreement by the Secretary, or designated representative, final selection will be completed, and the grant funds will be obligated for the funding period.

Award Administration Information

Award Notices

Although subject to change, the LSV Grant Program expects to announce grant awards on or around July 1, 2024. VA reserves the right to make adjustments (e.g., to funding levels), as needed, within the intent of the NOFO based on a variety of factors, including the availability of funding. The initial announcement will be made through a news release posted on the VA's LSV website at www.va.gov./homeless/lsv.asp.

The LSV Grant Program will notify successful and unsuccessful applicants. Only a grant agreement with a VA signature is evidence of an award and is an authorizing document allowing costs to be incurred against a grant award. Other notices, letters, or announcements are not authorizing documents. The grant agreement includes the terms and conditions of the award and must be signed by the entity and VA to be legally binding.

Administrative and National Policy Requirements

VA places great emphasis on responsibility and accountability. VA has procedures in place to monitor grants provided under the LSV Grant Program. All applicants selected in response to this NOFO must agree to meet applicable inspection standards outlined in the grant agreement.

Grantees are responsible for complying with all requirements of the Federal award. Federal awards must also comply with the provisions of the Federal Funding Accountability and Transparency Act, which includes requirements on executive compensation, and other requirements found at 2 CFR parts 25 and 170. Grantees and their employees also are subject to the whistleblower rights and remedies established in 41 U.S.C. 4712.

Payment of Grant Funds

Grantees will receive payments electronically through the HHS PMS. Grantees will have the ability to request payments as frequently as they choose subject to the following limitations:

1. During the first quarter of the grantee's legal services annualized grant award period, the grantee's cumulative requests for legal services grant funds may not exceed 35% of the total legal services grant award without written approval by VA.

2. By the end of the second quarter of the grantee's legal services annualized grant award period, the grantee's cumulative requests for legal services grant funds may not exceed 60% of the total legal services grant award without written approval by VA.

3. By the end of the third quarter of the grantee's legal services annualized grant award period, the grantee's cumulative requests for legal services grant funds may not exceed 80% of the total legal services grant award without written approval by VA.

4. By the end of the fourth quarter of the grantee's annualized legal services grant award period, the grantee's cumulative requests for legal services grant funds may not exceed 100% of the total legal services grant award.

Reporting and Monitoring

VA places great emphasis on the responsibility and accountability of grantees. As described in 38 CFR part 79.95, VA has procedures to monitor legal services provided to participants and outcomes associated with the legal services provided under the LSV Grant Program. Applicants should be aware of the following:

1. Grantees will be required to track data that will consist of information on the participants served and the types of legal services provided by grantees and subsequent outcomes. Information regarding legal services provided may be protected from being released to VA under attorney-client privilege; however, the grantee must provide sufficient information to demonstrate the frequency and type of services delivered to meet performance measurement outcomes, as defined in 2 CFR part 200.301.

2. VA will complete annual monitoring evaluations of each grantee. Monitoring also will include the submission of quarterly and yearly financial and performance reports by the grantee in accordance with 2 CFR part 200. The grantee will be expected to demonstrate adherence to the grantee's proposed program concept, as described in the grantee's application. All grantees are also subject to audits conducted by VA or its representative.

3. Grantees will be assessed based on their ability to meet critical reporting requirements that are defined by the regulations.

Program Evaluation

The purpose of program evaluation is to evaluate the program's success.

1. Grantees will participate in VA's national project monitoring and evaluation to determine successful outcomes. Each grantee's performance will be measured against established performance targets.

2. Grantees who do not meet the performance measures or who otherwise perform or appear to perform less than satisfactorily may be subject to additional conditions of award. Additional conditions may include, but are not limited to, increased reporting or monitoring, reductions, withholding, suspension, termination, or other remedies for non-compliance at VA's discretion.

3. VA reserves the right to add, remove, or change at any time prior to or during the award period the performance measures, targets, services, caseload requirements, grant payment amounts, payment schedule, or other grant requirements.

4. VA's overall performance for all grants funded from this NOFO will be measured against the same criteria and targets used for each grant.

Signing Authority

Denis McDonough, Secretary of Veterans Affairs, approved and signed this document on December 12, 2023, and authorized the undersigned to sign and submit the document to the Office of the Federal Register for publication electronically as an official document of the Department of Veterans Affairs.

Jeffrey M. Martin,
Assistant Director, Office of Regulation Policy & Management, Office of General Counsel, Department of Veterans Affairs.

[FR Doc. 2023-27691 Filed 12-15-23; 8:45 am]

BILLING CODE 8320-01-P